DEPARTMENT OF VETERANS AFFAIRS

[OMB Control No. 2900-XXXX]

Agency Information Collection Activity: Labor Market Information Report-Veteran Readiness and Employment

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed new collection and allow 60 days for public comment in response to the notice.

DATES: Written comments and recommendations on the proposed collection of information should be received on or before March 25, 2024.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-10290” in any correspondence. During the comment period, comments may be viewed online through FDMS.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-XXXX” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 3116 and 3117.

Title: Labor Market Information Report-Veteran Readiness and Employment.

OMB Control Number: 2900-XXXX.

Type of Review: New collection.

Abstract: VA Form 28-10290 will be used to collect information on individualized labor market information to include specific occupational trends, required qualifications, skillsets, salaries, physical and educational requirements for the Veteran's identified occupational career path. The information collected will be used to conduct an evaluation to assist the Veteran in selecting a suitable vocational goal that is consistent with his or her abilities, aptitudes, interests and does not aggravate his or her disability(ies). Vocational planning is a critical element in selecting a suitable vocational goal for the purpose of the development of a rehabilitation plan for a Veteran within the Veteran Readiness and Employment (VR&E) program. The foundation of a successful rehabilitation program is a well-developed plan of action. Comprehensive labor market information is the first step in developing a successful rehabilitation plan for each Veteran. The VR&E staff subsequently, will use the information on this form to ensure a suitable vocational goal is identified as part of the Veteran's rehabilitation plan to assist him or her in obtaining and maintaining suitable employment.

This form will be obtained through electronic methods to include VA.gov or by the referring Vocational Rehabilitation Counselor. Upon compilation of the data, the form will be electronically submitted to the appropriate VR&E staff.

Affected Public: Individuals and households.

Estimated Annual Burden: 16,586 hours.

Estimated Average Burden per Respondent: 15 minutes.

Frequency of Response: One time.

Estimated Number of Respondents: 66,344 per year.

By direction of the Secretary.
Maribel Aponte,
VA PRA Clearance Officer, Office of Enterprise and Integration/Data Governance Analytics, Department of Veterans Affairs.

[FR Doc. 2024-01301 Filed 1-23-24; 8:45 am]

BILLING CODE 8320-01-P